DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and vessel that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessel placed on the SDN List has been identified as property in which a blocked person has an interest.

DATES: See Supplementary Information section for applicable date(s).

FOR FURTHER INFORMATION CONTACT: OFAC: Andrea M. Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On February 23, 2022, OFAC determined that the property and interests in property subject to U.S. jurisdiction of the following persons and property are blocked under the relevant sanctions authorities listed below.

BILLING CODE 4810-AL-P

On February 23, 2022, OFAC also identified the following vessel as property in which a blocked person has an interest under the relevant sanctions authority listed below:

Vessel:

1. LIGHT MOON (V4EO4) Bulk Carrier St. Kitts and Nevis flag; Secondary sanctions risk: Section 1(b) of Executive Order 13224, as amended by Executive Order 13886; Vessel Registration Identification IMO 9109550 (vessel) [SDGT] (Linked To: MAHAMUD, Abdi Nasir Ali).

Identified pursuant to E.O. 13224, as amended, as property in which ABDI NASIR ALI MAHAMUD, a person whose property and interests in property are blocked pursuant to E.O. 13224, as amended, has an interest.

Dated: February 23, 2022.
Andrea M. Gacki,
Director, Office of Foreign Assets Control, U.S. Department of the Treasury.

[FR Doc. 2022-04200 Filed 2-28-22; 8:45 am]

BILLING CODE 4810-AL-C